DEPARTMENT OF THE INTERIOR

Bureau of Land Management

[CO-700-01-1220-AL-1784]

Southwest Resource Advisory Council Meeting

AGENCY: Bureau of Land Management, Interior.

ACTION: Notice; Southwest Resource Advisory Council meeting.

SUMMARY: Notice is hereby given that the Southwest Resource Advisory Council (Southwest RAC) will meet in April, 2001 in Durango, Colorado.

DATES: The meeting will be held on Thursday, April 12, 2001.

ADDRESSES: For additional information, contact Roger Alexander, Bureau of Land Management, 2465 South Townsend Avenue, Montrose, Colorado 81401; phone 970.240.5335; e-mail roger_alexander@co.blm.gov.

SUPPLEMENTARY INFORMATION: The April 12, 2001 meeting will be held at the San Juan Public Lands Center, Sonoran Rooms A & B, 15 Burnett Court in Durango, Colorado. The meeting will begin at 9 a.m. and end no later than 4:30 p.m. The agenda will include a presentation on BLM's oil and gas program responsibilities and RAC business items for 2001. General public comment is scheduled for 9:15 a.m.

Summary minutes for Council meetings are maintained at BLM's Western Slope Center office in Montrose and on the internet at http://www.co.blm.gov/swrac/swrac.htm and are available for public inspection and reproduction within thirty (30) days following each meeting.

Dated: February 9, 2001.
Roger Alexander,
Public Affairs Specialist.

[FR Doc. 01-4316 Filed 2-21-01; 8:45 am]

BILLING CODE 4310-JB-P